DEPARTMENT OF LABOR

Employment and Training Administration

Notice of Availability of Funds and Solicitation for Grant Applications for Intermediary Organizations Serving Juvenile Offenders in High-Poverty, High-Crime Communities

AGENCY: Employment and Training Administration, Labor.

ACTION: Notice of Solicitation for Grant Applications (SGA).

Funding Opportunity Number: SGA/DFA PY-12-03.

SUMMARY: The U.S. Department of Labor (DOL), Employment and Training Administration (ETA), announces the availability of $20 million in grant funds authorized by the Workforce Investment Act for grants to intermediary organizations to operate multi-site projects to serve juvenile offenders and in-school youth at-risk of involvement in the juvenile justice system, ages 14 and above, in high-poverty, high-crime communities.

Intermediary Organizations Serving Juvenile Offenders in High-Poverty, High-Communities grants will be awarded through a competitive process. Under this solicitation, DOL expects to award, four grants of $5 million each to cover a 39-month period of performance. These grants will include a combination of workforce development, education and training, case management, mentoring, restorative justice, community-wide violence reduction components, and post program support and follow-up.

The complete SGA and any subsequent SGA amendments in connection with this solicitation are described in further detail on ETA's Web site at http://www.doleta.gov/grants/ or on http://www.grants.gov. The Web sites provide application information, eligibility requirements, review and selection procedures, and other program requirements governing this solicitation.

DATES: The closing date for receipt of applications under this announcement is April 15, 2013. Applications must be received no later than 4:00:00 p.m. Eastern Time.

FOR FURTHER INFORMATION CONTACT: Brinda Ruggles, 200 Constitution Avenue NW., Room N-4716, Washington, DC 20210; Telephone: 202-693-3437.

Signed: February 25, 2013, in Washington, DC.
Eric D. Luetkenhaus,
Grant Officer, Employment and Training Administration.

[FR Doc. 2013-04792 Filed 2-28-13; 8:45 am]

BILLING CODE 4510-FT-P